DEPARTMENT OF ENERGY

Federal Energy Regulatory Commission

Combined Notice of Filings #1

August 12, 2008.

Take notice that the Commission received the following electric corporate filings:

Docket Numbers: EC08-116-000.

Applicants: Ridgeline Energy LLC.

Description: Ridgeline Energy LLC et al. submits a joint application for authorization for confidential treatment, expedited consideration and waivers.

Filed Date: 08/08/2008.

Accession Number: 20080812-0094.

Comment Date: 5 p.m. Eastern Time on Friday, August 29, 2008.

Docket Numbers: EC08-117-000.

Applicants: Harbinger Capital Partners Master Fund I.

Description: Harbinger Capital Partners Master Fund I, Ltd et al. submits an application for approval pursuant to Section 203 of the Federal Power Act.

Filed Date: 08/08/2008.

Accession Number: 20080812-0074.

Comment Date: 5 p.m. Eastern Time on Friday, August 29, 2008.

Take notice that the Commission received the following electric rate filings:

Docket Numbers: ER98-3184-011; ER00-494-005.

Applicants: TransAlta E. Mktg US; TransAlta Centralia Generation LLC.

Description: TransAlta Energy Marketing, TransAlta Centralia Generation Supplement to Updated Market Power Analysis.

Filed Date: 08/07/2008.

Accession Number: 20080807-5085.

Comment Date: 5 p.m. Eastern Time on Thursday, August 28, 2008.

Docket Numbers: ER99-2369-005.

Applicants: Alliance for Cooperative Energy Services.

Description: Alliance for Cooperative Energy Services Power Marketing, LLC's correction to the 6/23/08 filing of Fourth Revised Sheet 2 to their Rate Schedule 1.

Filed Date: 08/05/2008.

Accession Number: 20080808-0094.

Comment Date: 5 p.m. Eastern Time on Tuesday, August 26, 2008.

Docket Numbers: ER01-48-012.

Applicants: Powerex Corp.

Description: Powerex Corp. Notice of Non-Material Change in Status.

Filed Date: 08/07/2008.

Accession Number: 20080807-5084.

Comment Date: 5 p.m. Eastern Time on Thursday, August 28, 2008.

Docket Numbers: ER01-316-029.

Applicants: ISO New England Inc.

Description: ISO New England, Inc submits its Index of Customers for the second quarter of 2008 under the ISO's FERC Tariff for Transmission Dispatch and Power Administration Services.

Filed Date: 07/29/2008.

Accession Number: 20080811-0073.

Comment Date: 5 p.m. Eastern Time on Tuesday, August 19, 2008.

Docket Numbers: ER03-191-003.

Applicants: Peaker LLC.

Description: Peaker, LLC submits substitute tariff sheets (Substitute Original Sheet 1 et al. to First Revised Rate Schedule 1) to conform to the citation requirements of Order 697-A.

Filed Date: 08/08/2008.

Accession Number: 20080811-0102.

Comment Date: 5 p.m. Eastern Time on Friday, August 29, 2008.

Docket Numbers: ER03-983-014.

Applicants: Fox Energy Company, LLC.

Description: Fox Energy Company, LLC submits relined versions of Original Sheet 1 to FERC Electric Tariff, Substitute First Revised Volume 1 to be replaced with the tariff sheets filed on 7/30/08 pursuant to Order 697-A.

Filed Date: 08/07/2008.

Accession Number: 20080811-0001.

Comment Date: 5 p.m. Eastern Time on Thursday, August 28, 2008.

Docket Numbers: ER06-560-002.

Applicants: Credit Suisse Energy LLC.

Description: Credit Suisse Energy, LLC submits Substitute First Revised Rate Schedule FERC 1.

Filed Date: 08/05/2008.

Accession Number: 20080808-0095.

Comment Date: 5 p.m. Eastern Time on Tuesday, August 26, 2008.

Docket Numbers: ER06-713-002.

Applicants: Weyerhaeuser Company.

Description: Weyerhaeuser Company submits Substitute First Revised Sheet 1 et al. to Rate Schedule FERC 1.

Filed Date: 08/07/2008.

Accession Number: 20080811-0004.

Comment Date: 5 p.m. Eastern Time on Friday, August 15, 2008.

Docket Numbers: ER06-1364-001.

Applicants: International Paper Company.

Description: International Paper Company submits Substitute First Revised Sheet 1 et al. to FERC Electric Tariff 1.

Filed Date: 08/07/2008.

Accession Number: 20080811-0003.

Comment Date: 5 p.m. Eastern Time on Friday, August 15, 2008.

Docket Numbers: ER06-1419-002.

Applicants: MeadWestvaco Virginia Corporation.

Description: MeadWestvaco Virgina Corporation submits Substitute First Revised Sheet 1 to Rate Schedule FERC 1, effective 9/18/07.

Filed Date: 08/01/2008.

Accession Number: 20080805-0210.

Comment Date: 5 p.m. Eastern Time on Friday, August 15, 2008.

Docket Numbers: ER07-466-002.

Applicants: MET MA, LLC.

Description: MET MA, LLC submits and amendment to its application filed on 6/30/08 for Determination of Category 1 Status under Order 697.

Filed Date: 08/05/2008.

Accession Number: 20080808-0096.

Comment Date: 5 p.m. Eastern Time on Tuesday, August 26, 2008.

Docket Numbers: ER07-515-001.

Applicants: Domtar Corporation.

Description: Domtar Corporation submits Substitute First Revised Sheets 1 and 2 to Rate Schedule FERC 1 to clarify its 6/27/08 triennial market power update etc.

Filed Date: 08/07/2008.

Accession Number: 20080811-0002.

Comment Date: 5 p.m. Eastern Time on Friday, August 15, 2008.

Docket Numbers: ER08-303-002.

Applicants: Williams Gas Marketing, Inc.

Description: Williams Gas Marketing, Inc submits the market-based rate tariff and Appendix B which were inadvertently omitted from the 6/30/08 filing.

Filed Date: 08/06/2008.

Accession Number: 20080808-0090.

Comment Date: 5 p.m. Eastern Time on Wednesday, August 27, 2008.

Docket Numbers: ER08-567-001.

Applicants: Southern California Edison Company.

Description: Southern California Edison submits a new Master Fringe Service Agreement between SCE and the City of Anaheim, Rate Schedule FERC 476.

Filed Date: 08/04/2008.

Accession Number: 20080808-0085.

Comment Date: 5 p.m. Eastern Time on Monday, August 25, 2008.

Docket Numbers: ER08-611-002; ER08-613-002.

Applicants: Niagara Mohawk Power Corporation.

Description: Niagara Mohawk Power Corp submits their Refund Report.

Filed Date: 08/06/2008.

Accession Number: 20080808-0086.

Comment Date: 5 p.m. Eastern Time on Wednesday, August 27, 2008.

Docket Numbers: ER08-949-002.

Applicants: Westar Energy, Inc.

Description: Westar Energy, Inc submits an Alternate Pro Forma Sheet 30 to Westar's pro forma Formula Rate Agreement for Full Requirements Electric Service between Westar and the City of Alma, Kansas etc.

Filed Date: 08/11/2008.

Accession Number: 20080812-0067.

Comment Date: 5 p.m. Eastern Time on Tuesday, September 02, 2008.

Docket Numbers: ER08-950-001.

Applicants: ISO New England Inc., Northeast Utilities Service Co.

Description: Western Massachusetts Electric Co et al. submits response to FERC's 7/8/08 Questions.

Filed Date: 08/07/2008.

Accession Number: 20080811-0093.

Comment Date: 5 p.m. Eastern Time on Thursday, August 28, 2008.

Docket Numbers: ER08-1042-002; ER08-1055-001.

Applicants: Midwest Independent Transmission System.

Description: Midwest Independent Transmission System Operator, Inc submits its response to FERC's 7/30/08 request for additional information re Amended Contigency Reserve Sharing Group Agreement.

Filed Date: 08/06/2008.

Accession Number: 20080811-0091.

Comment Date: 5 p.m. Eastern Time on Friday, August 15, 2008.

Docket Numbers: ER08-1056-001; EL08-51-001.

Applicants: Entergy Services, Inc.

Description: Entergy Operating Companies submits compliance filing.

Filed Date: 08/08/2008.

Accession Number: 20080812-0076.

Comment Date: 5 p.m. Eastern Time on Friday, August 29, 2008.

Docket Numbers: ER08-1085-001.

Applicants: El Paso Electric Company.

Description: El Paso Electric Company submits revised sheets to its Open Access Transmission Tariff pursuant to FERC's 8/8/08 Order.

Filed Date: 08/11/2008.

Accession Number: 20080812-0068.

Comment Date: 5 p.m. Eastern Time on Tuesday, September 02, 2008.

Docket Numbers: ER08-1240-001.

Applicants: MH Partners LP.

Description: MH Partners LP submits supplement to its Application for Order Accepting Initial Rate Schedule, Waiving Regulations, Granting Blanket Approvals and Expedited Action etc.

Filed Date: 08/06/2008.

Accession Number: 20080811-0077.

Comment Date: 5 p.m. Eastern Time on Wednesday, August 27, 2008.

Docket Numbers: ER08-1353-000.

Applicants: Southern California Edison Company.

Description: Southern California Edison Company submits existing transmission contracts rate filing Volume 1.

Filed Date: 08/04/2008.

Accession Number: 20080808-0236.

Comment Date: 5 p.m. Eastern Time on Monday, August 25, 2008.

Docket Numbers: ER08-1354-001.

Applicants: Occidental Chemical Corporation.

Description: Occidental Chemical Corporation submits an amendment to their Application in order to remove the language re sales into Southwest Power Pool's Energy Imbalance Service Market from its proposed tariff.

Filed Date: 08/08/2008.

Accession Number: 20080812-0075.

Comment Date: 5 p.m. Eastern Time on Friday, August 29, 2008.

Docket Numbers: ER08-1361-000.

Applicants: New York Power Authority.

Description: New York Power Authority et al. submits an executed Large Generator interconnection Agreement among the NYISO as the Transmission Provider, NYPA as the Transmission Owner, and Noble Altona Windpark as the Developer.

Filed Date: 08/06/2008.

Accession Number: 20080807-0214.

Comment Date: 5 p.m. Eastern Time on Wednesday, August 27, 2008.

Docket Numbers: ER08-1362-000.

Applicants: PJM Interconnection, LLC.

Description: PJM Interconnection, LLC submits a notice of cancellation for an interconnection service agreement that has been superseded.

Filed Date: 08/06/2008.

Accession Number: 20080807-0213.

Comment Date: 5 p.m. Eastern Time on Wednesday, August 27, 2008.

Docket Numbers: ER08-1363-000.

Applicants: SAC. Energy Investments, LP.

Description: SAC Energy Investments, LP submits a Notice of Cancellation of its market-based rate schedule, Electric Rate Schedule FERC 1, FERC accepted originally on 10/25/06.

Filed Date: 08/06/2008.

Accession Number: 20080807-0212.

Comment Date: 5 p.m. Eastern Time on Wednesday, August 27, 2008.

Docket Numbers: ER08-1364-000.

Applicants: California Independent System Operator Corporation.

Description: California Independent System Operator Corp. submits an amendment to its market Redesign and Technology Upgrade version of the CAISO Tariff.

Filed Date: 08/06/2008.

Accession Number: 20080807-0211.

Comment Date: 5 p.m. Eastern Time on Wednesday, August 27, 2008.

Docket Numbers: ER08-1365-000.

Applicants: E. ON U.S. LLC.

Description: E. ON U.S. LLC et al. submits proposed revisions to the LG&E/KU joint Open Access Transmission Tariff.

Filed Date: 08/06/2008.

Accession Number: 20080807-0210.

Comment Date: 5 p.m. Eastern Time on Wednesday, August 27, 2008.

Docket Numbers: ER08-1366-000.

Applicants: Idaho Power Company.

Description: Idaho Power Company submits First Revised Long-Term Point-to-Point Transmission Service Agreement dated 7/21/08, between Idaho Power and PacifiCorp for transmission service provided to the Point of Delivery etc.

Filed Date: 08/06/2008.

Accession Number: 20080807-0209.

Comment Date: 5 p.m. Eastern Time on Wednesday, August 27, 2008.

Docket Numbers: ER08-1367-000.

Applicants: Idaho Power Company.

Description: Idaho Power Company submits revised network integration transmission service agreement executed on 10/26/07, between Idaho Power and Bonneville Power Admin Serving Oregon Trail Electric Cooperative etc.

Filed Date: 08/06/2008.

Accession Number: 20080807-0208.

Comment Date: 5 p.m. Eastern Time on Wednesday, August 27, 2008.

Docket Numbers: ER08-1368-000.

Applicants: Carolina Power & Light Company d/b/a Pro.

Description: Carolina Power & Light Co. submits proposed modifications to the Joint Open Access Transmission Tariff, in compliance with FERC's 7/2/08 order.

Filed Date: 08/07/2008.

Accession Number: 20080808-0229.

Comment Date: 5 p.m. Eastern Time on Thursday, August 28, 2008.

Docket Numbers: ER08-1369-000.

Applicants: Midwest Independent Transmission System.

Description: Midwest Independent Transmission System Operator, Inc. and PJM Interconnection, LLC submit proposed revisions to their Joint Operating Agreement.

Filed Date: 08/07/2008.

Accession Number: 20080808-0230.

Comment Date: 5 p.m. Eastern Time on Thursday, August 28, 2008.

Docket Numbers: ER08-1370-000.

Applicants: Midwest Independent Transmission System.

Description: Midwest Independent Transmission System Operator, Inc. et al. submits proposed revisions to their Open Access Transmission Energy and Operating Reserve Markets Tariff, FERC Electric Tariff, Third Revised 1, etc.

Filed Date: 08/07/2008.

Accession Number: 20080811-0075.

Comment Date: 5 p.m. Eastern Time on Thursday, August 28, 2008.

Docket Numbers: ER08-1371-000.

Applicants: Southwest Power Pool, Inc.

Description: Southwest Power Pool, Inc. submits revised pages to its Open Access Transmission Tariff, intended to implement a rate change for Westar Energy, Inc., which is a transmission owner and pricing zone etc.

Filed Date: 08/07/2008.

Accession Number: 20080811-0074.

Comment Date: 5 p.m. Eastern Time on Thursday, August 28, 2008.

Docket Numbers: ER08-1372-000.

Applicants: E. ON U.S. LLC.

Description: E. ON U.S. LLC on behalf of Louisville Gas and Electric Company et al. submits a proposed amendment to the LG&E/KU joint Open Access Transmission Tariff.

Filed Date: 08/08/2008.

Accession Number: 20080811-0078.

Comment Date: 5 p.m. Eastern Time on Friday, August 29, 2008.

Docket Numbers: ER08-1373-000.

Applicants: Otter Tail Power Company.

Description: Otter Tail Power Company submits proposed revisions to their Control Area Services and Operations Tariff.

Filed Date: 08/08/2008.

Accession Number: 20080812-0092.

Comment Date: 5 p.m. Eastern Time on Friday, August 29, 2008.

Docket Numbers: ER08-1375-000.

Applicants: Midwest ISO Transmission Owners.

Description: Midwest ISO Transmission Owners request for waiver/suspension and notice of cancellation of ancillary service scheduled of open access transmission tariffs.

Filed Date: 08/08/2008.

Accession Number: 20080812-0071.

Comment Date: 5 p.m. Eastern Time on Friday, August 29, 2008.

Docket Numbers: ER08-1376-000.

Applicants: Southwest Power Pool.

Description: Southwest Power Pool Inc submits a partially executed Letter Agreement to amend a Large Generator Interconnection Agreement with Cloud County Wind Farm, LLC.

Filed Date: 08/08/2008.

Accession Number: 20080812-0069.

Comment Date: 5 p.m. Eastern Time on Friday, August 29, 2008.

Docket Numbers: ER08-1377-000.

Applicants: Xcel Energy Services Inc.

Description: NSP Companies submits proposed amendments to certain service agreements subject to Rate Schedule Transmission Service TM-1 and to the TM-1.

Filed Date: 08/08/2008.

Accession Number: 20080812-0096.

Comment Date: 5 p.m. Eastern Time on Friday, August 29, 2008.

Docket Numbers: ER08-1378-000.

Applicants: PJM Transmission Owners.

Description: PJM Interconnection, LLC submits Second Revised Sheet 224LL et al. to FERC Electric Tariff, Sixth Revised Volume 1 containing clarifications to Section 217.3 of PJM Open Access Transmission Tariff.

Filed Date: 08/08/2008.

Accession Number: 20080812-0073.

Comment Date: 5 p.m. Eastern Time on Friday, August 29, 2008.

Docket Numbers: ER08-1379-000.

Applicants: Southwest Power Pool, Inc.

Description: Southwest Power Pool, Inc. submits revised tariff sheets amending Attachment Z1 and other relevant provisions of the SPP Open Access Transmission Tariff.

Filed Date: 08/08/2008.

Accession Number: 20080812-0070.

Comment Date: 5 p.m. Eastern Time on Friday, August 29, 2008.

Docket Numbers: ER08-1380-000.

Applicants: Southwest Power Pool, Inc.

Description: Southwest Power Pool, Inc. submits revised pages to their Bylaws intended to incorporate the modifications that have been accepted by FERC.

Filed Date: 08/08/2008.

Accession Number: 20080812-0072.

Comment Date: 5 p.m. Eastern Time on Friday, August 29, 2008.

Docket Numbers: ER08-1381-000.

Applicants: PJM Interconnection, L.L.C.

Description: PJM Interconnection, LLC submits an executed Wholesale Market Participation Agreement with The Vision Power System, Inc., and Potomac Electric Power Company executed on 7/11/08.

Filed Date: 08/11/2008.

Accession Number: 20080812-0066.

Comment Date: 5 p.m. Eastern Time on Tuesday, September 2, 2008.

Docket Numbers: ER08-1382-000.

Applicants: American Electric Power Service Corporation.

Description: AEP Operating Companies requests acceptance of a seventh revision to the Interconnection and Local Delivery Agreement between American Electric Power Service Corp., and Blue Ridge Power Authority.

Filed Date: 08/11/2008.

Accession Number: 20080812-0065.

Comment Date: 5 p.m. Eastern Time on Tuesday, September 2, 2008.

Take notice that the Commission received the following open access transmission tariff filings:

Docket Numbers: OA07-30-001.

Applicants: Ohio Valley Electric Corporation.

Description: Order No. 890 OATT Filing of Ohio Valley Electric Corporation under Docket No. OA07-30.

Filed Date: 08/08/2008.

Accession Number: 20080808-5020.

Comment Date: 5 p.m. Eastern Time on Friday, August 29, 2008.

Docket Numbers: OA07-37-002.

Applicants: E. ON U.S. LLC.

Description: E ON US, LLC submits revised tariff sheets for Attachment L to the Louisville Gas and Electric Co./Kentucky Utilities Co. Open Access Transmission Tariff under OA07-37.

Filed Date: 08/06/2008.

Accession Number: 20080808-0093.

Comment Date: 5 p.m. Eastern Time on Wednesday, August 27, 2008.

Docket Numbers: OA07-100-001.

Applicants: Black Hills Power, Inc.

Description: Black Hills Power, Inc., submits a revised version of Joint Tariff Attachment C reflect a modified TRM assessment methodology under OA07-100.

Filed Date: 08/06/2008.

Accession Number: 20080808-0091.

Comment Date: 5 p.m. Eastern Time on Wednesday, August 27, 2008.

Docket Numbers: OA08-124-000.

Applicants: Idaho Power Company.

Description: Idaho Power Co.'s Open Access Transmission Tariff (OATT) Compliance Filing pursuant to Order 890-A and 890-B.

Filed Date: 08/07/2008.

Accession Number: 20080807-5086.

Comment Date: 5 p.m. Eastern Time on Thursday, August 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-19281 Filed 8-19-08; 8:45 am]

BILLING CODE 6717-01-P